FEDERAL COMMUNICATIONS COMMISSION

Notice of Public Information Collection(s) Being Reviewed by the Federal Communications Commission

May 24, 2005.

SUMMARY: The Federal Communications Commission, as part of its continuing effort to reduce paperwork burden invites the general public and other Federal agencies to take this opportunity to comment on the following information collection(s), as required by the Paperwork Reduction Act (PRA) of 1995, Public Law No. 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before August 1, 2005. If you anticipate that you will be submitting comments, but find it difficult to do so within the period of time allowed by this notice, you should advise the contact listed below as soon as possible.

ADDRESSES: Direct all Paperwork Reduction Act (PRA) comments to Leslie F. Smith, Federal Communications Commission, Room 1-A804, 445 12th Street, SW., Washington, DC 20554 or via the Internet to Leslie.Smith@fcc.gov.

FOR FURTHER INFORMATION CONTACT: For additional information or copies of the information collection(s), contact Leslie F. Smith at (202) 418-0217 or via the Internet at Leslie.Smith@fcc.gov.

SUPPLEMENTARY INFORMATION: OMB Control Number: 3060-0812.

Title: Assessment and Collection of Regulatory Fees.

Form Number: N/A.

Type of Review: Extension of a currently approved collection.

Respondents: Individuals or households; Business or other for-profit; State, local, or tribal governments; and Not-for-profit institutions.

Number of Respondents: 4,500.

Estimated Time per Response: 0.5 hours.

Frequency of Response: Recordkeeping; On occasion reporting requirement.

Total Annual Burden: 2,250 hours.

Total Annual Cost: N/A.

Privacy Impact Assessment: Yes.

Needs and Uses: In accordance with the Telecommunications Act of 1934, as amended, and Congressional requirements, the FCC is required to assess and collect regulatory fees from licensees and regulatees in order to recover its costs incurred in conducting enforcement, policy and rulemaking, international, and user information activities. The purpose of the requirements are to facilitate: (1) The statutory provisions that “non-profit entity” may be exempt from payment of regulatory fees, and (2) the FCC's ability to audit regulatory fee payment information from all regulatees. The FCC must as estimate as accurately as possible the number of payment units and distribute the costs to develop a Regulatory Fee Schedule. These estimates must be adjusted to account for any licensee or regulatee that is exempt from payment of regulatory fees. Therefore, the FCC requires all licensees and regulates, which claim exemption as a non-profit entity, to provide one-time documentation sufficient to establish their non-profit status. Additionally, any newly licensed or operating non-profit entities must submit documentation of their exempt status within 60 days of receipt of the license, authorization, permit, or commencing operation. Further, the FCC is requesting that it be similarly notified if there are any status changes. Documentation that supports a regulatee's exempt status as a non-profit includes, but is not limited to, an Internal Revenue Service (IRS) Determination Letter, a state charter granting indicating non-profit status, proof of church affiliation, articles of incorporation, and 501(c)(3) letters, et al. The FCC may require licensees to submit business data they used to calculate their regulatory fee payments to facilitate the Commission's audit of regulatory fee payment compliance.

Federal Communications Commission.
Marlene H. Dortch,
Secretary.

[FR Doc. 05-10968 Filed 5-31-05; 8:45 am]

BILLING CODE 6712-10-P